DEPARTMENT OF HEALTH AND HUMAN SERVICES

Centers for Disease Control and Prevention

[30Day-16-16RZ]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

An Assessment of the State Public Health Actions (“1305”) Program—New—National Center for Chronic Disease Prevention and Health Promotion (NCCDPHP), Centers for Disease Control and Prevention (CDC).

Background and Brief Description

In 2013, the NCCDPHP developed a new program funding opportunity to support states in the design and implementation of strategies to reduce complications from multiple chronic diseases and associated risk factors. The funding opportunity was announced as “State Public Health Actions to Prevent and Control Diabetes, Heart Disease, Obesity and Associated Risk Factors and Promote School Health,” CDC-RFA-DP13-1305, and is hereafter referred to as “State Public Health Actions 1305.” This new five-year cooperative agreement supports state health departments in an important transition from funding and implementing four separate categorical areas (i.e., diabetes; heart disease and stroke; nutrition, physical activity, and obesity; and school health) to working collaboratively across categorical areas to plan and implement cross-cutting initiatives. This cross-cutting approach is essential for supporting activities to prevent chronic disease and risk factors—particularly multiple chronic conditions.

Through this cooperative agreement, CDC currently provides over $100 million to state health departments in all 50 United States and the District of Columbia. Due to the funding, complexity, coordination, and collaboration needed to implement State Public Health Actions 1305, there are a number of semi-annual and annual reporting requirements related to categorical spending, chronic disease outcomes, efficiencies, and accomplishments. These routine reporting requirements allow CDC to monitor awardee progress towards programmatic goals, but do not collect specific information about the processes that support program implementation plans.

The overall evaluation of State Public Health Actions 1305 examines the efficiency and effectiveness of the program to provide accountability, improve programs, expand practice-based evidence, and demonstrate health outcomes. An important component of assessing efficiency and effectiveness of the program is examining synergy. Synergy occurs when collaboration, coordination, alignment, and a combination of inputs and activities (i.e., the assets and skills of all the participating partners) produce outputs and outcomes greater than those that would have occurred if they had been used separately.

CDC proposes to conduct an assessment to better understand synergy within and across State Public Health Actions 1305 funded programs. The assessment is designed to examine changes in processes; organizational structure; capacity; states' ability to implement a coordinated approach across the different chronic disease areas; challenges and benefits; and measurable positive outcomes.

CDC plans to administer a web-based survey to health departments receiving funding through the State Public Health Actions 1305 cooperative agreement, including 50 states and the District of Columbia. CDC plans to administer the survey in 2016 (program year 4) and 2018 (program year 5) to explore changes in partnerships and synergy throughout the 5-year cooperative agreement. Surveys will be administered to health department staff directly involved in planning and/or implementation of the State Public Health Actions 1305 program, including principal investigators, chronic disease directors, program evaluators, epidemiologists, and program staff with subject matter expertise in one or more of the four categorical areas. CDC will recruit approximately 8 individuals from each funded program for a total of approximately 408 respondents.

CDC will use survey findings to (1) inform future CDC technical assistance provision to State Public Health Actions 1305 funded programs, and (2) inform future cross-cutting, coordinated funding models. In addition, findings will complement existing routine reporting by gathering information about the specific processes that support program implementation plans. Findings will be disseminated via grantee webinars, grantee annual meetings, reports to CDC leadership, and U.S. Congressional reports.

OMB approval is requested for two years. Participation is voluntary and there are no costs to respondents other than their time. The total estimated burden hours are 306.

Estimated Annualized Burden Hours
Type of respondents | Form name | Number of respondents | Number of responses per respondent | Average burden per response (in hours)
State Health Department Staff | State Synergy Survey | 408 | 1 | 45/60

Leroy A. Richardson,
Chief, Information Collection Review Office, Office of Scientific Integrity, Office of the Associate Director for Science, Office of the Director, Centers for Disease Control and Prevention.

[FR Doc. 2016-15117 Filed 6-24-16; 8:45 am]

BILLING CODE 4163-18-P